DEPARTMENT OF DEFENSE

Office of the Secretary

[Docket ID: DoD-2021-OS-0051]

Proposed Collection; Comment Request

AGENCY: The Office of the Under Secretary of Defense for Personnel and Readiness, Department of Defense (DoD).

ACTION: Information collection notice.

SUMMARY: In compliance with the Paperwork Reduction Act of 1995, the Office of the Under Secretary of Defense for Personnel and Readiness, announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 24, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Undersecretary of Defense for Personnel and Readiness, 4000 Defense Pentagon, Washington, DC 20301, Room 2C548A, Kathryn E. Purinton, 703-571-0106.

SUPPLEMENTARY INFORMATION: Title; Associated Form; and OMB Number: Involuntary Allotment Application; DD Form 2653; OMB Control Number 0704-0367.

Needs and Uses: This collection of information is in response to requests for involuntary allotments. Before responding to a request, the responsible government official must have information that identifies both the applicant and the member against whom the involuntary allotment is sought; proves that the request is based on a valid court judgment; shows that the judgment comports with the provision of the Soldiers and Sailors Civil Relief Act (SCRA); and enables consideration for whether exigencies of military duty caused the absence of the member from a judicial proceeding upon which the judgment is based. With the exception of information concerning exigencies of military duty, an applicant for an involuntary allotment must provide required information before a government official can act on the applicant's request. The information from the DD Form 2653 is used by DFAS officials to determine whether an involuntary allotment should be established against the pay of a member of the Armed Forces. The information is used to provide government reviewing officials with necessary information to ensure that both the law and due process considerations are accounted for, including information sufficient for a decision maker to determine that the request is based on a valid judgment and that the SCRA has been complied with.

Affected Public: Individuals or households.

Annual Burden Hours: 1,392 hours.

Number of Respondents: 2,783.

Responses per Respondent: 1.

Annual Responses: 2,783.

Average Burden per Response: 30 minutes.

Frequency: On occasion.

Dated: June 16, 2021.
Aaron T. Siegel,
Alternate OSD Federal Register Liaison Officer, Department of Defense.

[FR Doc. 2021-13609 Filed 6-24-21; 8:45 am]

BILLING CODE 5001-06-P